DEPARTMENT OF TRANSPORTATION

Federal Aviation Administration

Notice of Release From Federal Grant Assurance Obligations for San Luis Obispo Airport (SBP), San Luis Obispo, California

AGENCY: Federal Aviation Administration, DOT.

ACTION: Notice of request to release airport land.

SUMMARY: The Federal Aviation Administration (FAA) proposes to rule and invites public comments on the application for a release of 27,443 square feet (approximately 0.63 acres) of airport property at San Luis Obispo Airport, San Luis Obispo, California from all conditions contained in the Grant Assurances. This land is not needed for airport purposes. The property consists of land that is vacant, unimproved, and landlocked. It is separated from the airport operations area by a public highway. The land sat idle and unused for over 25 years. The property would be sold at an appraised fair market value to the adjacent property owner. Proceeds would be deposited in the airport account, thereby serving the interests of civil aviation.

DATES: Comments must be received on the proposed land release request from federal obligations on or before July 27, 2018.

FOR FURTHER INFORMATION CONTACT: Comments on the request may be mailed or delivered to the FAA at the following address: Katherine Kennedy, Federal Aviation Administration, San Francisco Airports District Office, Federal Register Comment, 1000 Marina Boulevard, Suite 220, Brisbane, CA 94005-1835, telephone (650) 827-7611, facsimile (650) 817-7634. In addition, one copy of the comment submitted to the FAA must be mailed or delivered Mr. Philip M. D'Acri, Real Property Manager, County of San Luis Obispo Central Services Department, San Luis Obispo, CA 93408, telephone (805) 781-5206, facsimile (805) 781-1364.

SUPPLEMENTARY INFORMATION: In accordance with the Wendell H. Ford Aviation Investment and Reform Act for the 21st Century (AIR 21), Public Law 106-181 (Apr. 5, 2000; 114 Stat. 61), this notice must be published in the Federal Register 30 days before the Secretary may waive any condition imposed on a federally obligated airport by surplus property conveyance deeds or grant agreements.

Following is a brief overview of the request:

The County of San Luis Obispo, California, the owner and operator of the San Luis Obispo Airport, requested a release from grant assurance obligations for approximately 27,443 square feet (approximately 0.63 acres) of airport property. The property was acquired with local funds in 1991 for runway approach protection. However, in 2007, the Runway 7-25 threshold was shifted to the west side of Runway 11-29. After this shift, the property was no longer necessary for approach protection.

Due to the property's landlocked location and current condition, it has not been used for aeronautical purposes. A major highway (HWY 227) separates the property from the rest of the airport. Because the property lacks direct ingress and egress, attempts to lease the property have been unsuccessful. This non-contiguous property continues to remain unused and unimproved. This portion of land is not suitable for future airport development and is identified on the airport's FAA-approved Airport Layout Plan for future disposal. Release and sale of the land would not negatively impact airport operations.

The sales price would be based on an appraised market value. Sale proceeds would be deposited in the airport account to be solely expended for the capital and operating costs of the San Luis Obispo Airport, thereby serving the interests of civil aviation.

Issued in Brisbane, California, on June 21, 2018.
Patrick Magnotta,
Acting Manager, San Francisco Airports District Office, Western-Pacific Region.

[FR Doc. 2018-13839 Filed 6-26-18; 8:45 am]

BILLING CODE 4910-13-P